DEPARTMENT OF THE INTERIOR

National Park Service

Notice of Inventory Completion for Native American Human Remains and Associated Funerary Objects in the Possession of the American Museum of Natural History, New York, NY

AGENCY: National Park Service, Interior.

ACTION: Notice.

Notice is hereby given in accordance with provisions of the Native American Graves Protection and Repatriation Act (NAGPRA), 43 CFR 10.9, of the completion of an inventory of human remains and associated funerary objects in the possession of the American Museum of Natural History, New York, NY.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by American Museum of Natural History professional staff in consultation with representatives of the Alabama-Coushatta Tribes of Texas; the Alabama-Quassarte Tribal Town, Oklahoma; the Caddo Indian Tribe of Oklahoma; the Catawba Indian Nation; the Cherokee Nation, Oklahoma; the Chickasaw Nation, Oklahoma; the Chitimacha Tribe of Louisiana; the Choctaw Nation of Oklahoma; the Coushatta Tribe of Louisiana; the Eastern Band of Cherokee Indians of North Carolina; the Kialegee Tribal Town, Oklahoma; the Miccosukee Tribe of Indians of Florida; the Mississippi Band of Choctaw Indians, Mississippi; the Muscogee (Creek) Nation, Oklahoma; the Poarch Band of Creek Indians of Alabama; the Seminole Nation of Oklahoma; the Seminole Tribe of Florida, Dania, Big Cypress, Brighton, Hollywood & Tampa Reservations; the Thlopthlocco Tribal Town, Oklahoma; the Tunica-Biloxi Indian Tribe of Louisiana; the Tuscarora Nation of New York; and the United Keetoowah Band of Cherokee Indians of Oklahoma.

In an unknown year, human remains representing a minimum of one individual were collected by an unknown collector. Museum records indicate that the remains were found in the vicinity of Shreveport, possibly “Caddo Parish?” or “Bossier Parish?,” LA. The American Museum of Natural History acquired these human remains as either a purchase or a gift from C.C. Jones, Jr., in 1877. The museum does not have information on how Mr. Jones, Jr., acquired these human remains. No known individual was identified. No associated funerary objects are present.

This individual has been identified as a Native American, based on geographic, biological, and consultation evidence. Geographic, archeological, and biological evidence further suggests that these human remains are likely culturally affiliated with the Caddo Indian Tribe of Oklahoma. This individual exhibits a type of artificial cranial deformation (typically frontal and fronto-occipital) that is seen in many documented pre-contact Caddoan sites and is associated with the pre-contact development of Caddoan culture around A.D. 800. It is generally accepted that Caddoan peoples introduced artifical cranial deformation to Louisiana. Representatives of the Caddo Indian Tribe of Oklahoma, in consultation with American Museum of Natural History staff, included Caddo and Bossier Parishes in their aboriginal territory.

Based on the above-mentioned information, officials of the American Museum of Natural History have determined that, pursuant to 43 CFR 10.2 (d)(1), the human remains listed above represent the physical remains of a minimum of one individual of Native American ancestry. Officials of the American Museum of Natural History also have determined that, pursuant to 43 CFR 10.2 (e), there is a relationship of shared group identity that can be reasonably traced between these Native American human remains and the Caddo Indian Tribe of Oklahoma.

This notice has been sent to officials of the Alabama-Coushatta Tribes of Texas; the Alabama-Quassarte Tribal Town, Oklahoma; the Caddo Indian Tribe of Oklahoma; the Catawba Indian Nation; the Cherokee Nation, Oklahoma; the Chickasaw Nation, Oklahoma; the Chitimacha Tribe of Louisiana; the Choctaw Nation of Oklahoma; the Coushatta Tribe of Louisiana; the Eastern Band of Cherokee Indians of North Carolina; the Kialegee Tribal Town, Oklahoma; the Miccosukee Tribe of Indians of Florida; the Mississippi Band of Choctaw Indians, Mississippi; the Muscogee (Creek) Nation, Oklahoma; the Poarch Band of Creek Indians of Alabama; the Seminole Nation of Oklahoma; the Seminole Tribe of Florida, Dania, Big Cypress, Brighton, Hollywood & Tampa Reservations; the Thlopthlocco Tribal Town, Oklahoma; the Tunica-Biloxi Indian Tribe of Louisiana; the Tuscarora Nation of New York; and the United Keetoowah Band of Cherokee Indians of Oklahoma. Representatives of any other Indian tribe that believes itself to be culturally affiliated with these human remains should contact Martha Graham, Director of Cultural Resources, American Museum of Natural History, Central Park West at 79th Street, New York, NY 10024-5192, telephone (212) 769-5846, before March 23, 2001. Repatriation of the human remains to the Caddo Indian Tribe of Oklahoma may begin after that date if no additional claimants come forward.

Dated: January 29, 2001.
John Robbins,
Assistant Director, Cultural Resources, Stewardship, and Partnerships.

[FR Doc. 01-4301 Filed 2-20-01; 8:45 am]

BILLING CODE 4310-70-F